DEPARTMENT OF ENERGY

Federal Energy Regulatory Commission

[Docket Nos. OR13-31-000]

Flint Hills Resources Alaska, LLC, BP Pipelines (Alaska) Inc., ConocoPhillips Transportation Alaska, Inc., ExxonMobil Pipeline Company; Notice of Complaint

Take notice that on August 20, 2013, pursuant to section 9, 13(1), and 15(1) of the Interstate Commerce Act, 49 U.S.C. 9, 13(1), and 15(1), Rule 206 of the Rules of Practice and Procedures of the Federal Energy Regulatory Commission (Commission), 18 CFR 365.206 (2013), and section 343.2 of the Procedural Rules Applicable to Oil Pipeline Proceedings, 18 CFR 343.2 (2013), Flint Hills Resources Alaska, LLC (FHR or Complainant) filed a formal complaint against BP Pipelines (Alaska) Inc., ConocoPhillips Transportation Alaska, Inc., and ExxonMobil Pipeline Company (collectively, Respondents), petitioning the Commission to investigate the continuing reasonableness of the existing Quality Bank provisions of the Respondents' tariffs governing the method of making monetary adjustments among TAPS shippers to account for the differences between the quality of the crude oil tendered for transportation and the quality of the crude oil received by that shipper.

The Complainant certifies that copies of the complaint were served on the contacts for the Respondents as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 9, 2013.

Kimberly D. Bose,
Secretary.

[FR Doc. 2013-20924 Filed 8-27-13; 8:45 am]

BILLING CODE 6717-01-P